DEPARTMENT OF THE INTERIOR

National Park Service

[NPS-WASO-NAGPRA-NPS0032048; PPWOCRADN0-PCU00RP14.R50000]

Notice of Inventory Completion: Metropolitan Park District of the Toledo Area, Toledo, OH

AGENCY: National Park Service, Interior.

ACTION: Notice.

SUMMARY: The Metropolitan Park District of the Toledo Area (Metroparks Toledo) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to Metroparks Toledo. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to Metroparks Toledo at the address in this notice by July 8, 2021.

FOR FURTHER INFORMATION CONTACT: Joseph Fausnaugh, Metroparks of the Toledo Area, 5100 West Central Avenue, Toledo, OH 43615, telephone (419) 407-9700, email joe.fausnaugh@metroparkstoledo.com.

SUPPLEMENTARY INFORMATION: Notice is here given in accordance with the Native American Graves Protection and Repatriation Act (NAGPRA), 25 U.S.C. 3003, of the completion of an inventory of human remains and associated funerary objects under the control of the Metropolitan Park District of the Toledo Area, Toledo, OH. The human remains and associated funerary objects were removed from the Fore Site (33LU0133) in the City of Maumee, Lucas County, OH.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made for Metroparks Toledo by The Mannik Smith Group, Inc. professional staff in consultation with representatives of the Absentee-Shawnee Tribe of Indians of Oklahoma; Bay Mills Indian Community, Michigan; Delaware Nation, Oklahoma; Delaware Tribe of Indians; Eastern Shawnee Tribe of Oklahoma; Forest County Potawatomi Community, Wisconsin; Grand Traverse Band of Ottawa and Chippewa Indians, Michigan; Lac Vieux Desert Band of Lake Superior Chippewa Indians of Michigan; Little Traverse Bay Bands of Odawa Indians, Michigan; Match-e-be-nash-she-wish Band of Pottawatomi Indians of Michigan; Miami Tribe of Oklahoma; Minnesota Chippewa Tribe, Minnesota (Mille Lacs Band); Nottawaseppi Huron Band of the Potawatomi, Michigan [previously listed as Huron Potawaomi, Inc.]; Pokagon Band of Potawatomi Indians, Michigan and Indiana; Saginaw Chippewa Indian Tribe of Michigan; Sault Ste. Marie Tribe of Chippewa Indians, Michigan; Shawnee Tribe, Tonawanda Band of Seneca [previously listed as Tonawanda Band of Seneca Indians of New York]; and the Wyandotte Nation (hereafter referred to as “The Consulted Tribes”).

History and Description of the Remains

Between May 18 and June 19, 1987, human remains representing, at minimum, two individuals were removed from the Fore Site (33LU0133) in Lucas County, OH. The Fore Site was excavated by archeologists from Heidelberg College in 1986 and 1987. During the 1987 field season, a burial feature was excavated. The burial contained one individual. Based on artifacts contained in the feature, the burial was dated to the Younge Phase of the Late Woodland period (ca. 1050-800 B.P.), part of the Western Basin Tradition culture as described by archeologists. No radiometric dating of any materials from the feature was undertaken. In addition to the burial, the human remains of one individual were recovered from another stratum. No known individuals were identified. The 2,828 associated funerary objects include: One fossilized crinoid bead, 594 pieces of lithic debitage, cores, and tools made of Dundee/Stoney Creek, Ten Mile Creek, Bayport, Cedarville/Guelph, Delaware, Upper Mercer, Upper Mercer Nellie Variety, Greywacke, Onondaga, Quartzite, Local Devonian Limestone, Flint Ridge, and Pipe Creek cherts, one ground stone tool made of igneous rock, three projectile points made of Flint Ridge and Bayport cherts, four fire-cracked rocks made of igneous rock and limestone, 62 unmodified natural rocks, 408 fired and unfired clay sherds, four pottery temper fragments, 1,408 faunal remains representing deer, cow, rabbit, raccoon, squirrel, turtle, unidentified rodents, unidentified birds, unidentified reptiles, and shell fragments, two burned nut fragments, 276 charcoal fragments, one bag of soil with numerous small charcoal fragments, five slag pieces, one nail fragment, three unidentified ferrous metal fragments, 53 brick fragments, and two whiteware sherds.

Following the excavations, all the materials removed from the Fore Site were taken to the Heidelberg College Archaeology Laboratory in Tiffin, Ohio. A report of investigations for the 1987 field season at the Fore Site was completed by Dr. G. Michael Pratt in the spring of 1988. The Fore Site collection remained at Heidelberg College (now Heidelberg University) until the summer of 2017, when the university eliminated its anthropology program. At that time, all archeological collections from Metroparks Toledo-owned property were returned to Metroparks Toledo. Metroparks Toledo then negotiated an agreement with the Ohio History Connection (OHC) in Columbus to have the OHC permanently store Metroparks Toledo's archeological collections in its archeological curation facility (which meets the Secretary of the Interior's standards [36 CFR 79] for such facilities).

Determinations Made by the Metropolitan Park District of the Toledo Area

Officials of the Metropolitan Park District of the Toledo Area have determined that:

• Pursuant to 25 U.S.C. 3001(9), the human remains described in this notice are Native American based on archeological context, biological evidence, museum, and lab records.

• Pursuant to 25 U.S.C. 3001(9), the human remains described in this notice represent the physical remains of two individuals of Native American ancestry.

• Pursuant to 25 U.S.C. 3001(3)(A), the 2,828 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains were removed is the aboriginal land of the Ottawa Tribe of Oklahoma.

• Treaties, Acts of Congress, or Executive Orders, indicate that the land from which the Native American human remains and associated funerary objects were removed is the aboriginal land of the Absentee-Shawnee Tribe of Indians of Oklahoma; Bad River Band of the Lake Superior Tribe of Chippewa Indians of the Bad River Reservation, Wisconsin; Bay Mills Indian Community, Michigan; Chippewa Cree Indians of the Rocky Boy's Reservation, Montana [previously listed as Chippewa-Cree Indians of the Rocky Boy's Reservation, Montana]; Citizen Potawatomi Nation, Oklahoma; Delaware Nation, Oklahoma; Forest County Potawatomi Community, Wisconsin; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Match-e-be-nash-she-wish Band of Pottawatomi Indians of Michigan; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan [previously listed as Huron Potawatomi, Inc.]; Ottawa Tribe of Oklahoma; Peoria Tribe of Indians of Oklahoma; Pokagon Band of Potawatomi Indians, Michigan and Indiana; Prairie Band Potawatomi Nation [previously listed as Prairie Band of Potawatomi Nation, Kansas]; Red Cliff Band of Lake Superior Chippewa Indians of Wisconsin; Red Lake Band of Chippewa Indians, Minnesota; Saginaw Chippewa Indian Tribe of Michigan; Sault Ste. Marie Tribe of Chippewa Indians, Michigan; Shawnee Tribe; Sokaogon Chippewa Community, Wisconsin; St. Croix Chippewa Indians of Wisconsin; Turtle Mountain Band of Chippewa Indians of North Dakota; and the Wyandotte Nation (hereafter referred to as “The Tribes”).

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Joseph Fausnaugh, Metroparks of the Toledo Area, 5100 West Central Avenue, Toledo, OH 42615, telephone (419) 407-9700, email joe.fausnaugh@metroparkstoledo.com, by July 8, 2021. After that date, if no additional requestors have come forward, transfer of control of the human remains and associated funerary objects to The Tribes may proceed.

The Metropolitan Park District of the Toledo Area is responsible for notifying The Tribes that this notice has been published.

Dated: May 25, 2021.
Melanie O'Brien,
Manager, National NAGPRA Program.

[FR Doc. 2021-11942 Filed 6-7-21; 8:45 am]

BILLING CODE 4312-52-P